NEIGHBORHOOD REINVESTMENT CORPORATION

Sunshine Act Meeting, Annual Board of Directors Meeting

TIME & DATE: 2 PM, Thursday, May 31, 2001.

PLACE: Neighborhood Reinvestment Corporation, 1325 G Street, NW., Suite 800, Washington, DC 20005.

STATUS: Open.

CONTACT FOR MORE INFORMATION : Jeffrey T. Bryson, General Counsel/Secretary 202-220-2372.

Agenda

I. Call to Order

II. Approval of Minutes: February 26, 2001, Regular Meeting

III. Election of Chairman

IV. Election of Vice Chairman

V. Committee Appointments

VI. Election of Officers

VII. Board Appointments

VII. Treasurer's Report

IX. Executive Director's Quarterly Management Report

X. Strategic Planning Discussion

XI. Adjournment

Jeffrey T. Bryson,
General Counsel/Secretary.

[FR Doc. 01-12520 Filed 5-15-01; 10:35 am]

BILLING CODE 2570-01-M